DEPARTMENT OF COMMERCE

National Oceanic and Atmospheric Administration

[I.D. 050905A]

Fisheries of the Gulf of Mexico; Southeastern Data, Assessment, and Review (SEDAR); Gulf of Mexico Vermilion Snapper, Greater Amberjack, and Gray Triggerfish

AGENCY: National Marine Fisheries Service (NMFS), National Oceanic and Atmospheric Administration (NOAA), Commerce.

ACTION: Notice of change in SEDAR Workshops for Gulf of Mexico vermilion snapper, greater amberjack, and gray triggerfish.

SUMMARY: The SEDAR assessments of the Gulf of Mexico stocks of vermilion snapper, greater amberjack, and gray triggerfish will consist of a series of three workshops: a Data Workshop, an Assessment Workshop, and a Review Workshop. This is the ninth SEDAR. The Data and Assessment workshops are completed. An additional workshop to complete the assessment will be held in December 2005 and the review workshop will be delayed until March 2006, see SUPPLEMENTARY INFORMATION.

DATES: The Second Assessment Workshop will take place December 19-20, 2005; and the Review Workshop will take place March 27-31, 2006, see SUPPLEMENTARY INFORMATION.

ADDRESSES: The Second Assessment Workshop will be held at the Doubletree Club Hotel Atlanta Airport, 3400 Norman Berry Drive, Atlanta GA, telephone: (404) 763-1600. The Review Workshop will be held at the Hotel Monteleone, 214 Royal Street, New Orleans, LA 70130, telephone: (504) 523-3341.

FOR FURTHER INFORMATION CONTACT: Steven Atran, Gulf of Mexico Fishery Management Council (GMFMC), 2203 North Lois Avenue, Suite 1100, Tampa FL 33607. telephone: (813) 348-1630. John Carmichael, SEDAR Coordinator, 1 Southpark Circle, Suite 306, Charleston, SC 29414. (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop and the Stock Assessment Workshop is a stock assessment report which describes the fisheries, evaluates the status of the stock, estimates biological benchmarks, projects future population conditions, and recommends research and monitoring needs. The Assessment Report is independently peer reviewed at the Review Workshop. The product of the Review Workshop is a Consensus Summary which reports Panel opinions regarding the strengths and weaknesses of the stock assessment and input data. Participants for SEDAR Workshops are appointed by the regional Fishery Management Councils, NOAA Fisheries' Southeast Regional Office (SERO), and the NOAA Fisheries' Southeast Fisheries Science Center (SEFSC), and include data collectors and database managers; stock assessment scientists, biologists, and researchers; constituency representatives including fishermen, environmentalists, and NGO's; International experts; and staff of Councils, Commissions, and state and federal agencies.

The stock assessments assigned to SEDAR 9 were not completed during the August Assessment Workshop. Therefore, an additional workshop will be held in December 2005 to finalize the stock assessment reports and complete the Assessment Workshop tasks. As a result of delay in completing the stock assessments, the Review Workshop will be moved from December 2005 to March 2006. The original announcement of the SEDAR Workshops for the Gulf of Mexico vermillion snapper, greater amberjack, and gray triggerfish published at 70 FR 25018, May 12, 2005.

SEDAR 9 Workshop Schedule:

December 19-20, 2005. SEDAR 9 Assessment Workshop II

December 19, 2005, 10 a.m.-8 p.m. and December 20, 2005,8 a.m.-5 p.m.

Participants will review proposed assessment models and recommend the most appropriate methods and configurations for determining stock status and estimating population parameters. Participants will review assessment reports, compare and contrast various assessment approaches, and determine whether the assessments are adequate for submission to the review panel.

March 27-31, 2006. SEDAR 9 Review Workshop

March 27, 2006, 1 p.m.-8 p.m., March 28-30, 2006, 8 a.m.-8 p.m. and March 31, 2006, 8 a.m.-1 p.m.

The Review Workshop is an independent peer review of the assessment developed during the Data and Assessment Workshops. Workshop Panelists will review the assessment and document their comments and recommendations in a Consensus Summary. Panellists will summarize the assessment results in an Advisory Report.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accoomodations

These meetings are physically accessible to people with disabilities. Requests for sign language interpretation or other auxiliary aids should be directed to the Council office (see FOR FURTHER INFORMATION CONTACT) at least 5 business days prior to each workshop.

Dated: November 23, 2005
Tracey L. Thompson,
Acting Director, Office of Sustainable Fisheries, National Marine Fisheries Service.

[FR Doc. E5-6650 Filed 11-28-05; 8:45 am]

BILLING CODE 3510-22-S